DEPARTMENT OF THE INTERIOR

Bureau of Land Management

[WY-030-1310-DB]

Notice of Intent To Prepare an Environmental Impact Statement for the Creston/Blue Gap II Natural Gas Project, Carbon and Sweetwater Counties, WY

AGENCY: Bureau of Land Management, Interior.

ACTION: Notice of intent.

SUMMARY: Under Section 102 (2) (C) of the National Environmental Policy Act (NEPA) of 1969, as amended, the Bureau of Land Management (BLM), Rawlins Field Office, announces its intent to prepare an EIS on the potential impacts of a proposed natural gas development project consisting primarily of conventional gas well development, but also including approximately 100 coal bed natural gas wells.

In April 2005, the BLM received a proposal from Devon Energy Corporation representing themselves and other lease holders in the area, to drill and develop up to 1,250 wells from an estimated 1000 well pad sites and install and operate associated facilities. The proposed project area encompasses approximately 184,000 acres of mixed Federal, State, and private land, and overlies a natural gas field analyzed under the Creston/Blue Gap Natural Gas Project Final EIS (1994). Project development and the operational period is expected to have a 30 to 40 year life. The project area is located approximately 40 air miles southwest of the city of Rawlins, Carbon County, Wyoming.

DATES: This notice initiates the public scoping process. The BLM can best use public input if comments and resources information are submitted within 60 days of the publication of this notice. To provide the public with an opportunity to review the proposal and project information, the BLM will host a meeting in Rawlins, Wyoming. The BLM will notify the public of the meeting date, time and location at least 15 days prior to the event. Announcement will be made by news release to the media, individual letter mailings, and posting on the BLM Web site listed below if it is available.

ADDRESSES: Please send written comments or resource information to the Bureau of Land Management, Rawlins Field Office, Eldon Allison, Team Leader, 1300 North Third Street, P.O. Box 2407, Rawlins, Wyoming 82301. Electronic mail may be sent to: rawlins_wymail@blm.gov. Additionally, if available, the scoping notice will be posted on the Wyoming BLM NEPA Web page at http://www.wy.blm.gov/nepa/nepadocs.htm.

Your response is important and will be considered in the environmental analysis process. If you do respond, we will keep you informed of decisions resulting from this analysis. Please note that public comments and information submitted regarding this project including names, e-mail addresses, and street addresses of the respondents will be available for public review and disclosure at the above address during regular business hours (7:45 a.m. to 4:30 p.m.) Monday through Friday, except holidays. Individual respondents may request confidentiality. If you wish to withhold your name, e-mail, or street address from public review or from disclosure under the Freedom of Information Act, you must state this plainly at the beginning of your written comment. Such requests will be honored to the extent allowed by the law. All submissions from organizations or businesses, and from individuals identifying themselves as representatives or officials of organizations or businesses, will be made available for public inspection in their entirety.

FOR FURTHER INFORMATION CONTACT: Bureau of Land Management, Eldon Allison, Project Manager, 1300 North Third Street, P.O. Box 2407, Rawlins, Wyoming 82301. Mr. Allison may also be reached by telephone at (307) 328-4291, or by sending an electronic message to: Eldon_Allison@blm.gov.

SUPPLEMENTARY INFORMATION: Devon Energy Corporation (Devon) is the primary applicant and has proposed drilling and developing up to 1,250 conventional natural gas and coal bed natural gas wells from up to 1000 well pad locations. Associated project facilities would include roads, well pads, gas and water collection pipelines, compressor stations, water disposal systems, and a power supply system. During the preparation of the EIS, any interim development on public lands will require a detailed environmental review by the BLM. Such a review will determine what, if any, development could and/or would be authorized based on the analysis of the environmental impacts without having an adverse environmental impact and/or potential to limit selection within the range of reasonable alternatives for this proposed Creston/Blue Gap II Project and/or the range of reasonable within alternatives pending Rawlins RMP revision/EIS.

The Creston Blue/Gap II Natural Gas Project is located in Townships 14, 15, 16, 17, 18, and 19 North, Ranges 91, 92, 93, and 94 West, Sixth Principal Meridian, Carbon and Sweetwater Counties, Wyoming. The project area is located approximately 40 air miles southwest of Rawlins along the east and west sides of Wyoming State Highway 789. The project area is approximately 184,000 acres in size and involves a mixture of mostly Federal (71%) and private (26%) surface with some State land (3%). The BLM Rawlins Field Office manages the Federal surface lands and the Federal mineral estate.

The purpose of the natural gas development is to extract and recover natural gas from the Creston/Blue Gap II area and to provide more natural gas for distribution to consumers. This project confirms with the goals and objectives of the President's National Energy Plan, through proposing to increase domestic energy supplies and strengthen America's energy security. The proposed action may add up to 200 million cubic feet of natural gas per day into the market to help meet this growing national demand.

The EIS will address cumulative impacts and will include consideration of the effects of the project. Potential issues to be addressed in the EIS include but are not limited to: surface and ground water resources, air quality, wildlife populations and their habitats, private and public land access concerns, road development and transportation, reclamation, noxious weeds livestock grazing, cultural and paleontological resources, threatened and endangered wildlife and plant species, and socioeconomic impacts.

The project area is managed under the Great Divide Resource Management Plan (RMP) (1990). This RMP is currently being revised under the title of Rawlins Resource Management Plan. A Draft EIS for the Rawlins RMP was released in December 2004. A decision for the Creston/Blue Gap II Natural Gas Project (C/BG2 Project) will not be made nor implemented until after a Record of Decision is issued for the Rawlins RMP revision FEIS.

Dated: June 24, 2005.
Alan L. Kesterke,
Associate State Director.

[FR Doc. 05-17919 Filed 9-7-05; 8:45 am]

BILLING CODE 4310-22-P